FEDERAL COMMUNICATIONS COMMISSION

47 CFR Part 25

[IB Docket No. 01-185; FCC 03-15]

Flexibility for Delivery of Communications by Mobile Satellite Service Providers in the 2 GHz Band, the L-Band, and the 1.6/2.4 GHz Bands

AGENCY: Federal Communications Commission.

ACTION: Final rule; correction.

SUMMARY: This document corrects one citation in the rule changes published in the Federal Register of June 5, 2003, regarding Flexibility for Delivery of Communications by Mobile Satellite Service Providers in the 2 GHz Band, the L-Band, and the 1.6/2.4 GHz Bands. This correction cites to 47 CFR 25.136, the correct rule section affected by the rule change.

DATES: Effective on July 24, 2003.

FOR FURTHER INFORMATION CONTACT: Breck Blalock or James Ball, Policy Division, International Bureau, (202) 418-1460.

SUPPLEMENTARY INFORMATION: The FCC published a document in the Federal Register of June 5, 2003, (68 FR 33640). In FR Doc. 03-14081, published in the Federal Register of June 5, 2003, (68 FR 33640), § 25.136 was inadvertently identified. In Rule FR Doc. 03-14081 published on June 5, 2003 (68 FR 33640) make the following correction.

On page 33649, in the second column,

6. Section 25.136 is amended by revising the section heading and adding paragraphs (f), (g), and (h) of this section to read as follows:

§ 25.136 Licensing provisions for the L-Band mobile-satellite service.

* * * * *

(f) Incorporation of ancillary terrestrial component base station into an L-band Mobile-Satellite Service System. Any licensee authorized to construct and launch an L-band mobile-satellite system may construct ancillary terrestrial component (ATC) base stations as defined in § 25.201 at its own risk and subject to the conditions specified in this subpart any time after commencing construction of the mobile-satellite service system.

(g) Pre-operational testing. An MSS ATC licensee may, without further authority from the Commission, conduct equipment tests for the purpose of making such adjustments and measurements as may be necessary to assure compliance with the terms of the technical provisions of its MSS license, its ATC authorization, the rules and regulations in this part and the applicable engineering standards. An MSS licensee may not offer ATC service to the public for compensation during pre-operational testing. In order to operate any ATC base stations, such a licensee must meet all the requirements set forth in § 25.147 and must have been granted ATC authority through a modification of its space station license.

(h) Aircraft. All portable or hand-held transceiver units (including transceiver units installed in other devices that are themselves portable or hand-held) having operating capabilities in the 1626.5-1660.5 MHz and 1525-1559 MHz bands shall bear the following statement in a conspicuous location on the device: “This device may not be operated while on board aircraft. It must be turned off at all times while on board aircraft.”

* * * * *

Dated: July 16, 2003.
Federal Communications Commission.
William F. Caton,
Deputy Secretary.

[FR Doc. 03-18642 Filed 7-23-03; 8:45 am]

BILLING CODE 6712-01-P